DEPARTMENT OF COMMERCE

National Oceanic and Atmospheric Administration

50 CFR Part 665

[RTID 0648-XC196]

Pacific Island Fisheries; 2022 U.S. Territorial Longline Bigeye Tuna Catch Limits for American Samoa

AGENCY: National Marine Fisheries Service (NMFS), National Oceanic and Atmospheric Administration (NOAA), Commerce.

ACTION: Announcement of a valid specified fishing agreement.

SUMMARY: NMFS announces a valid specified fishing agreement that allocates up to 1,500 metric tons (t) of the 2022 bigeye tuna limit for American Samoa to U.S. longline fishing vessels. The agreement supports the long-term sustainability of fishery resources of the U.S. Pacific Islands, and fisheries development in American Samoa.

DATES: The specified fishing agreement was valid as of July 20, 2022. The start date for attributing 2022 bigeye tuna catch to American Samoa was August 25, 2022.

ADDRESSES: The Fishery Ecosystem Plan for Pelagic Fisheries of the Western Pacific (FEP) describes specified fishing agreements and is available from the Western Pacific Fishery Management Council (Council), 1164 Bishop St., Suite 1400, Honolulu, HI 96813, tel 808-522-8220, fax 808-522-8226, or http://www.wpcouncil.org.

NMFS prepared environmental analyses that describe the potential impacts on the human environment that would result from the action. The analyses, identified by NOAA-NMFS-2021-0076, are available from https://www.regulations.gov/search/docket?filter=NOAA-NMFS-2021-0076, or from Sarah Malloy, Acting Regional Administrator, NMFS Pacific Islands Region (PIR), 1845 Wasp Blvd., Bldg. 176, Honolulu, HI 96818.

FOR FURTHER INFORMATION CONTACT: Lynn Rassel, NMFS PIRO Sustainable Fisheries, 808-725-5184.

SUPPLEMENTARY INFORMATION: In a final rule published on December 29, 2021, NMFS specified a 2022 limit of 2,000 t of longline-caught bigeye tuna for each of the U.S. Pacific Island territories of American Samoa, Guam, and the Commonwealth of the Northern Mariana Islands (86 FR 73990). NMFS allows each territory to allocate up to 1,500 t of the 2,000 t limit to U.S. longline fishing vessels identified in a valid specified fishing agreement, but the overall allocation limit among all territories may not exceed 3,000 t.

On June 24, 2022, NMFS received from the Council, through its Executive Director, a specified fishing agreement between American Samoa and the Hawaii Longline Association providing an initial allocation to U.S. fishing of 1,300 t followed by a subsequent allocation, upon notification by HLA to American Samoa at a later date, of any unallocated portion of American Samoa's 1,500 mt allocation limit to U.S. fishing vessels identified in the agreement for 2022. The Council's Executive Director advised that the agreement is consistent with the FEP and its implementing regulations. On July 20, 2022, NMFS reviewed the agreement and determined that it is consistent with the FEP, implementing regulations, the Magnuson-Stevens Fishery Conservation and Management Act, and other applicable laws.

On March 29, 2022, NMFS determined that the U.S. longline fishery exceeded the 3,554 t 2021 U.S. bigeye tuna catch limit established in regulations at 50 CFR 300.224 by 196 t. Western and Central Pacific Fisheries Commission (WCPFC) Conservation and Management Measures (CMM) 2021-01, Paragraph 37, states that where the limit has been exceeded, any overage of the limit shall be deducted from the catch limit for the following year. In accordance with U.S. obligations as a WCPFC member, NMFS must reduce the 2022 U.S. bigeye tuna limit by the amount of the overage of 196 t. NMFS is preparing a separate regulatory package that would revise the 2022 U.S. bigeye tuna limit to 3,358 t. Although the revised limit is not yet effective, NMFS is basing its decisions for attributing bigeye catch under valid specified fishing agreements with U.S. participating territories pursuant to 50 CFR 665.819(c)(9)(i) on this 3,358 t limit to ensure compliance with CMM 2021-01.

At the time NMFS determined the American Samoa specified fishing agreement was consistent with applicable laws, U.S. longline vessels operating in the area of application of the Convention on the Conservation and Management of Highly Migratory Fish Stocks in the Western and Central Pacific Ocean (WCPO) still had about 9 percent of the 3,358 t U.S. catch limit left, so NMFS waited for a later projection to determine the date for attributing catch to the 2022 American Samoa limit and agreement.

In accordance with 50 CFR 300.224(d) and 50 CFR 665.819(c)(9), vessels in the agreement may retain and land bigeye tuna in the WCPO under the American Samoa attribution specified in the fishing agreement. Based on logbook data submitted by U.S. longline vessels in the WCPFC Convention Area, NMFS forecasts that the U.S. longline fishery will reach the U.S. bigeye tuna limit of 3,358 t by September 1, 2022. Regulations at 50 CFR 665.819(c)(9)(i) direct NMFS to begin attributing catch to the applicable U.S. territory starting seven days before the date NMFS forecasts the U.S. limit to be reached, or upon the effective date of the agreement, whichever is later. Therefore, on August 25, 2022, NMFS began attributing bigeye tuna caught by vessels in the agreement to American Samoa. If NMFS determines that the fishery will reach the overall 2,000 t territorial catch limit or the 1,500 t allocation limit, NMFS will restrict the catch and retention of longline-caught bigeye tuna by vessels in order to not exceed these limits, unless the vessels are included in a subsequent specified fishing agreement with another U.S. territory.

Authority: 16 U.S.C. 1801 et seq.

Dated: August 23, 2022.
Jennifer M. Wallace,
Acting Director, Office of Sustainable Fisheries, National Marine Fisheries Service.

[FR Doc. 2022-18499 Filed 8-26-22; 8:45 am]

BILLING CODE 3510-22-P